DEPARTMENT OF COMMERCE

International Trade Administration

Aerospace Supplier Mission to Russia

AGENCY: International Trade Administration, Department of Commerce.

ACTION: Notice.

Mission Description

The U.S. Department of Commerce, International Trade Administration, U.S. and Foreign Commercial Service, is organizing an Aerospace Supplier Mission to Moscow, October 3-5, 2010 and to Ulyanovsk October 5-7 (returning to Moscow on October 8th for departure to the United States). This aerospace mission, to be led by a senior U.S. Department of Commerce official, is designed to provide U.S. aerospace companies (particularly Small and Medium-Sized Enterprises) with a highly efficient and cost-effective opportunity to establish profitable commercial relationships with prospective agents, distributors and end-users in Russia's aerospace market. Participating U.S. companies will receive market intelligence briefings by Russian industry experts, information on how to do business in Russia, networking opportunities and most importantly, pre-scheduled, one-on-one meetings with Russian aerospace company representatives. Mission participants will also benefit from visiting key local aerospace original equipment manufacturers and will have the opportunity to speak with procurement managers about supply chain opportunities. This mission is an ideal opportunity for U.S. aerospace companies to gain valuable international business experience in a rapidly growing market. This mission presents strong potential for success with the ongoing support of the U.S. Commercial Service in Russia.

Commercial Setting

With over 140 million consumers, a growing middle class, and significant infrastructure needs, Russia remains one of the most promising markets for U.S. exporters. In 2009, per capita personal disposable income ($4,830) and GDP ($15,200) were the highest among the BRIC countries. Prior to the global economic crisis, during which 2009 GDP declined 7.9%, Russia had a nine-year run of continuous rapid economic expansion, with GDP growing approximately 7% annually. Most domestic and international experts believe that Russia emerged from recession in the third quarter of 2009; forecasts for 2010 growth in GDP range from 3.3% to 6.2%. Experts also expect that market conditions for U.S. and other exporters will improve as the recovery picks up speed.

$ millions | 2008 | 2009 | 2010 (estimate)
Total Market Size | 2,812 | 4,287 | 6,067
Total Local Production | 3,100 | 3,777 | 4,476
Total Exports | 2,326 | 2,288 | 2,250
Total Imports | 2,038 | 2,798 | 3,841
Imports from the U.S. | 513 | 597 | 694

The Russian aviation industry remains an important strategic industry and a promising market for foreign suppliers of aircraft equipment. In 2009, state financing of the industry increased twenty-fold as compared with 2004. The Russian government plays an active role in supporting the industry. United Aircraft Corporation (UAC), a state-controlled corporation established in 2006, spearheads the development of the national aviation industry.

In 2009, the Russian government allocated 19.45 billion rubles ($644 million) to the development of the industry under a federal program. In addition to traditional types of support, such as direct contributions to UAC's authorized capital and interest rate subsidies on modernization loans, the government also extended new subsidies for loans to support innovation and investment projects. This all signals an increased interest by Russian OEMs and tier suppliers to consider new procurement, which in turn opens broad prospects for U.S. suppliers of aircraft systems, components, machine tools and materials.

Since the Russian aviation industry consists of several intertwined industries (airframe, helicopter, engine building) and submarkets (OEMs, tier suppliers, distributors), opportunities for U.S. suppliers are not limited simply to a certain type of product, but cut across a variety of products along the production chain. These opportunities range from advanced machine tools and aviation materials to software, small and large components and spare parts, and complete on-board systems.

Mission Goals

The trade mission's goal is to introduce U.S. exporters of aerospace supply chain products to potential end-users and partners, including potential agents, distributors, and licensees, with the aim of creating business partnerships that will contribute to increasing U.S. exports to the Russian aerospace market, particularly the aircraft and aircraft parts market. The trade mission's purpose is to advance ITA's goal to broaden and deepen the U.S. exporter base by providing individual participants with opportunities to achieve aerospace export success in Russia.

Mission Scenario

Participants in the mission to Russia will benefit from a full range of business facilitation and trade promotion services provided by the U.S. Commercial Service in Russia, including: Meetings with individuals from both the public sector and private business. Participants will receive a briefing by Russian experts on the local aerospace market, as well as an overview of the country's economic and political environment and how to do business in the complex Russian market. The mission will include one-to-one business meetings between U.S. participants and potential Russian end-users and partners, and site visits to aircraft manufacturing facilities and aerospace original aerospace manufacturers, where companies will have the opportunity to meet senior OEM representatives and learn about planned projects and expected procurement needs. A networking event will be planned as well, if time and budget considerations allow.

Timetable

The proposed schedule allows for about two days in Moscow and possibly two days in Ulyanovsk.

October 3 (Sunday) Mission members arrive in Moscow

Moscow Sightseeing and Group Dinner

October 4 (Monday) Morning: U.S. Embassy/Commercial Service Briefing

Moscow Presentations by local experts

Afternoon: Individual Meetings with potential Russian partners

Evening: Possible Networking Event

October 5 Morning: Individual Meetings with potential Russian partners

(Tuesday) Afternoon: Site Visits

Moscow Evening: Depart for Ulyanovsk

October 6 Morning: Presentation by Ulyanovsk Regional Government

(Wednesday) Afternoon: Site Visits

Ulyanovsk Evening: Cultural program

October 7 Morning: Individual company meetings

(Thursday) Afternoon: Individual company meetings

Ulyanovsk Evening: Depart for Moscow

October 8 (Friday) Debriefing at U.S. Commercial Service Office

Moscow Departure for Airport

Participation Requirements

All parties interested in participating in the Commercial Service Aerospace Supplier Development Mission to Russia must complete and submit an application package for consideration by the Department of Commerce. All applicants will be evaluated on their ability to meet certain conditions and best satisfy the selection criteria as outlined below. A minimum of ten and a maximum of fifteen companies will be selected to participate in the mission from the applicant pool.

Fees and Expenses

After a company has been selected to participate on the mission, a participation fee paid to the U.S. Department of Commerce is required. The participation fee for one company representative will be $5,250 for small or medium-sized enterprises (SME) ¹ and $6,575 for large companies, which will cover one representative.² The fee for each additional firm representative (large firm or SME) is $250. Expenses for travel-airfare, lodging, in-country transportation (except for airport transfers and bus transportation to/from group meetings and air travel from Moscow to Ulyanovsk and back to Moscow), meals and incidentals will be the responsibility of each mission participant.

¹ An SME is defined as a firm with 500 or fewer employees or that otherwise qualifies as a small business under SBA regulations.

² Parent companies, affiliates, and subsidiaries will be considered when determining business size. The dual pricing reflects the Commercial Service's user fee schedule that became effective May 1, 2008.

Conditions for Participation

• An applicant must submit a completed and signed mission Participation Agreement and a completed Market Interest Questionnaire, which must include adequate information on the company's products and/or services, primary market objectives, and goals for participation. If the Department of Commerce receives an incomplete application, the Department may reject the application, request additional information, or take the lack of information into account when evaluating the applications.

• Each applicant must also certify that the products and services to be promoted through the mission are either produced in the United States or marketed under the name of a U.S. firm and have at least 51 percent U.S. content of the value of the finished product or service.

Selection Criteria for Participation

Selection will be based on the following criteria:

• Suitability of the company's products or services for the Russian aerospace market;

• Applicant's potential for business in Russia, including the likelihood of exports resulting from the mission;

• Consistency in the applicant's goals and objectives with the stated scope of the mission.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other internet Web sites, press releases to general and trade media, e-mail, direct mail, broadcast fax, notices by industry trade associations and other multiplier groups, and publicity at industry meetings, symposia, conferences, and trade shows. CS Moscow will conduct a webinar on aerospace opportunities in the Russian market in May 2010; the mission will be promoted during the webinar as well. The International Trade Administration will explore and welcome outreach assistance from other interested organizations, including other U.S. Government agencies.

Recruitment for the mission will begin immediately and will close on June 30, 2010. The U.S. Department of Commerce will review all applications immediately after the deadline. We will inform applicants of selection decisions as soon as possible after June 30, 2010. Applications received after the deadline will be considered only if space and scheduling constraints permit.

Information can also be obtained by contacting the mission contacts listed below:

Contacts

U.S. Commercial Service:

Diane Mooney, Director, Seattle USEAC, Tel: 206-553-5615, ext. 236, FAX: 206-553-7253, E-mail: Diane.Mooney@trade.gov;

Vladislav Borodulin, Commercial Specialist, CS Moscow, Tel: 7 (495) 728 5235, FAX: 7 (495) 728 5585, Vladislav.Borodulin@mail.doc.gov;

Ilona Shtrom, Commercial Officer, CS Moscow, Tel: 7 (495) 728 5306, Tel: 7 (495) 728 5585.

Natalia Susak,
Global Trade Programs, Commercial Service Trade Missions Program.

[FR Doc. 2010-12205 Filed 5-20-10; 8:45 am]

BILLING CODE 3510-FP-P